DEPARTMENT OF DEFENSE

Department of the Army

Preparation of the Programmatic Environmental Impact Statement (PEIS) for the Growth of the United States Army

AGENCY: Department of the Army, DOD

ACTION: Notice of intent.

SUMMARY: The President of the United States has directed the growth of the United States Army. In an unpredictable and rapidly changing global security environment, this directive is designed to ensure the Nation has the ground forces necessary to meet its strategic security and defense needs. These needs, as outlined in the National Security Strategy, include the disruption of terrorist networks, the prevention of nuclear proliferation, the support of peace and regional stability, the denial of rogue Nation support to terrorist organizations, and the promotion and advancement of democratic forms of government. The President has determined that the implementation of these security goals in the 21st century will require increased numbers of U.S. Army forces to sustain the military operaitons required to support these objectives. The Army, therefore, intends to prepare a PEIS to analyze alternatives for executing the Presidentially directed growth required to support the defense and security missions of the Nation in the 21st century.

The Presidential decision directs the Army to add 74,200 active and reserve component Soldiers to its total end strength. This growth includes the addition of six Brigade Combat Teams (BCTs) and the combat support (CS) and combat service support (CSS) units required to support them. In addition, the growth of the force will include “right sizing” or rebalancing the Army force structure to add increaed numbers of high demand critical skills which have been identified as shortfalls. Military skills, such as military police, engineers, and explosive ordnance detachments, must be added to the force in greater numbers to meet the increased needs for these types of units in operational theaters abroad. Rebalancing of the Army's force is needed to ensure the Army has the proper capabilities to sustain operations for promoting global and national security now and into the foreseeable future.

In addition to this growth, the Army recognizes the need to continue with initiatives to restructure its forces to implement the standard modular unit configurations directed by the Quadrennial Defense Review (QDR) in 2001 and 2006. Modularity is a critical component of Army Transformation and the Army continues to implement the QDR directive to standardize its units and their force structure. This standardization of Army force structure will continue to improve management and generate increased operational efficiencies within the Army. Stationing actions supporting modularity will be evaluated and considered in conjunction with stationing actions required to support Army growth.

The PEIS will assess the environmental capacity of the Army's installations to accommodate different types and combinations of new units as part of the growth and restructuring. The PEIS will examine the potential environmental and socioeconomic impacts at installations resulting from various combinations of new unit stationing actions. These stationing actions could include additional CS or CSS units, the addition of different types of modular BCTs, or combinations of these actions at a given stationing location. Under the Army's modularity initiative, which standardizes BCT force structure, there are three types of maneuver BCTs that will be discussed in the PEIS. These include the infantry BCT which consists of approximately 3,500 Soldiers; the Stryker BCT which consists of approximately 4,000 Soldiers; and the heavy BCT which consists of approximately 3,800 Soldiers. Potential impacts resulting from stationing actions of new CS and CSS units and these maneuver BCTs will be discussed and assessed at installation locations that have potential to support the growth and restructuring of the Army. The PEIS will analyze the proposed action's impacts upon the natural, cultural, and man-made environments at those stationing locations best able to meet the needs of the Army and its Soldiers and Families.

The Army intends to analyze the following alternatives in the PEIS: (1) Grow and restructure the Army by permanently stationing new units at existing Army installations within the United States and retaining some units at overseas installations outside of the continental United States that were originally scheduled to return to the United States; (2) Grow and restructure the Army by permanently stationing units at existing stationing locations within the United States. As part of this alternative, overseas installations would be used to temporarily accommodate a portion of Army growth while permanent facilities were constructed at existing Army installations within the United States; and (3) Grow and restructure the Army by permanently stationing new units at new and existing Army stationing locations within the United States. This alternative would include the construction of permanent party facilities at locations where the Army owns land but does not currently station permanent party personnel. As part of this alternative, overseas installations would be used to temporarily accommodate a portion of Army growth while permanent facilities were constructed within the United States.

In addition to the above alternatives, the no-action alternatives will be considered and used as a baseline for comparison of alternatives. The no-action alternative is to retain the U.S. Army at its current and strength and force structure. The no-action alternative includes those realignments and stationing actions directed by Base Realignment and Closure legislation in 2005, Army Global Defense Posture Realignment, and Army Modular Forces initiatives. The no-action alternative serves as a baseline for the comparison only and is not a viable means for meeting the current and future strategic security and defense requirements of the Nation.

Viable alternative stationing locations considered in this analysis for the growth of the Army are those installations that are best able to meet Army unit requirements for training ranges and maneuver space, housing and office space, maintenance and vehicle parking, and Soldier and Family quality of life (e.g., schools, gyms, medical facilities, reducing family disruption). The proposed action will require the Army to balance strategic, sustainment, and environmental considerations with evolving world conditions and threats to national defense and security.

FOR FURTHER INFORMATION CONTACT: Mr. Robert E. DiMichele, Public Affairs Officer, U.S. Army Environmental Command, Aberdeen Proving Ground, MD 21010; phone (410) 436-2556.

SUPPLEMENTARY INFORMATION: The global security environment is turbulent, unpredictable, and rapidly changing. It has placed considerable demands on the Nation's military, and highlighted the need for the Army to correct shortfalls in high demand skills while reassessing its force capability. No one has felt the impacts of the recent demands of the modern security environmental more than Soldiers and their Families. To meet the challenges of the wider range of security threats present in the 21st century the Army requires the growth and restructuring of its forces in order to sustain the broad range of operations required for national and global stability.

The PEIS is being prepared to comply with the National Environmental Policy Act of 1969 (NEPA) (42 U.S.C. 4321 et seq.) and meet Army NEPA procedures, which are outlined in Environmental Analysis of Army Actions (32 CFR part 651). These regulations require the Army to consider the environmental impacts of its proposed action and alternatives and to solicit the views of the public so it can make an informed final decision regarding how to proceed.

Proposed alternatives to grow the Army could involve three primary action depending on the installation being analyzed. These actions include the construction of housing and quality of life facilities (i.e., schools, gymnasiums, hospitals), the construction of new training ranges and infrastructure, and changes in the intensity of use of maneuver land and firing ranges associated with the increased frequency of training events. Evaluations will include strategic military and national security considerations for new stationing actions at locations which, if selected, are capable of supporting the National Security Strategy (2006), the QDR (2006), National Military Strategy, and the Army Campaign Plan. These strategic guidance documents have been incorporated into the Army's decision-making process. All of these individual components will be considered in the Army's PEIS for growth of the force in order to ensure a range of reasonable alternatives are carried forward which support the Nation's security requirements.

Based on public scoping and the factors discussed above, the Army will refine its range of reasonable alternatives to the extent possible to accommodate both mission requirements and quality of life considerations. In reaching its decision, the Army will assess and consider public concerns. The PEIS compares the direct, indirect, and cumulative environmental effects that may result from stationing actions connected with initiatives to grow the Army. The primary environmental issues to be analyzed will include those identified as the result of the scoping process and installation-specific considerations. These issues may include impacts to soil, water and air quality, airspace conflicts, natural and cultural resources, land use compatibility, noise, socioeconomics, environmental justice, energy use, human health and safety considerations, and infrastructure and range/training requirements.

Scoping and Public Comment: All interested members of the public, federally-recognized Indian Tribes, Native Alaskans, Native Hawaiian groups, federal, state, and local agencies are invited to participate in the scoping process for the preparation of the PEIS. Written comments identifying environmental issues, concerns and opportunities to be analyzed in the PEIS will be accepted for 30 days following publication of this Notice of Intent in the Federal Register. Comments may be sent to Mr. Robert E. DiMichele at the above address.

Dated: May 11, 2007.
Addison D. Davis,
Deputy Assistant Secretary of the Army, (Environment, Safety, and Occupational Health).

[FR Doc. 07-2405 Filed 5-15-07; 8:45am]

BILLING CODE 3710-08-M